DEPARTMENT OF HEALTH AND HUMAN SERVICES

National Committee on Vital and Health Statistics; Meeting

Pursuant to the Federal Advisory Committee Act, the Department of Health and Human Services announces the following advisory committee meeting.

Name: National Committee on Vital and Health Statistics (NCVHS).

Times and Dates:

9:00 a.m.-5:30 p.m., February 23, 2000

9:00 a.m.-5:00 p.m., February 24, 2000

Place: Conference Room 703A, Hubert H. Humphrey Building, 200 Independence Avenue, SW, Washington DC 20201.

Status: Open.

Purpose: The National Committee on Vital and Health Statistics is planning to meet on February 23-24, 2000. The meeting will focus on a variety of health data policy and privacy issues. Department officials will update the Committee on recent activities of the HHS Data Council and the status of HHS activities in implementing the administrative simplification provisions of Pub. L. 104-191, the Health Insurance Portability and Accountability Act of 1996 (HIPAA). The Committee also will discuss and take action on its annual report to Congress on the Implementation of HIPAA. In addition, the Committee will discuss a draft of its forthcoming report to HHS on standards for patient medical record information. An export panel will discuss summary measures of population health, and IOM representatives will brief the Committee on the IOM medical errors report. Subcommittee breakout sessions also are planned.

All topics are tentative and subject to change. Prior to the meeting, please check the NCVHS web site, where a detailed agenda will be posted when available.

Contact Person for More Information: Substantive information as summaries of NCVHS meetings and a roster of committee members may be obtained by visiting the NCVHS website (http://ncvhs.hhs.gov) where an agenda for the meeting will be posted when available. Additional information may be obtained by calling James Scanlon, NCVHS Executive Staff Director, Office of the Assistant Secretary for Planning and Evaluation, DHHS, Room 440-D. Humphrey Building, 200 Independence Avenue, SW, Washington, DC 20201, telephone (202) 690-7100, or Marjorie S. Greenberg, Executive Secretary, NCVHS, NCHS, CDC, Room 1100, Presidential Building, 6525 Belcrest Road, Hyattsville, Maryland 20782, telephone (301) 458-4245.

Note: In the interest of security, the Department has instituted stringent procedures for entrance to the Hubert H. Humphrey Building by non-government employees. Thus, individuals without a government identification card may need to have the guard call for an escort to the meeting room.

Dated: February 2, 2000.
James Scanlon,
Director, Division of Data Policy.

[FR Doc. 00-2960 Filed 2-8-00; 8:45 am]

BILLING CODE 4151-04-M